DEPARTMENT OF JUSTICE

Notice of Lodging of Consent Decree Under the Comprehensive Environmental Response, Compensation and Liability Act

Notice is hereby given that on August 15, 2011, a proposed Consent Decree in United States and State of Montana v. Soco West, Inc., Civil Action No. 1:11-cv-00088, was lodged with the United States District Court for the District of Montana.

In this settlement, Soco West, Inc. (“Soco”) has agreed to perform the remedial action at Operable Unit 2 of the Lockwood Solvent Groundwater Plume Superfund Site (the “Site”) in Billings, Yellowstone County, Montana, as well as certain Site-wide remedial obligations. The Consent Decree also requires Soco to pay $750,000 for past costs of removal and remedial action incurred by the United States in connection with the release or threatened release of hazardous substances at the Site, and the United States and Montana's future costs related to overseeing Soco's remedial action as well. The settlement resolves the United States and Montana's claims against Soco under Section 107(a) of the Comprehensive Environmental Response, Compensation and Liability Act (“CERCLA”), 42 U.S.C. 9607(a), and the United States' claims under Section 106 of CERCLA, 42 U.S.C. 9606, and Section 7003 of the Resource Conservation and Recovery Act, 42 U.S.C. 6973.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States and the State of Montana v. Soco West, Inc., D.J. Ref. 90-11-2-08777.

Commenters may request an opportunity for a public hearing in the affected area, in accordance with Section 7003(d) of RCRA.

During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy from the Consent Decree Library by mail, please enclose a check in the amount of $168.25 (25 cents per page reproduction cost) payable to the U.S. Treasury or, if requesting by e-mail or fax, forward a check in that amount to the Consent Decree Library at the address given above.

Robert Brook,
Assistant Chief, Environmental Enforcement Section, Environment and Natural Resources Division.

[FR Doc. 2011-21364 Filed 8-19-11; 8:45 am]

BILLING CODE 4410-15-P